DEPARTMENT OF AGRICULTURE

Commodity Credit Corporation

Natural Resources Conservation Service

[Docket ID: NRCS-2025-0236]

Information Collection Request; Advancing Markets for Producers (Formerly Partnerships for Climate-Smart Commodities)

AGENCY: Commodity Credit Corporation and Natural Resources Conservation Service, United States Department of Agriculture.

ACTION: Notice; request for comments.

SUMMARY: In accordance with the Paperwork Reduction Act of 1995, the Natural Resources Conservation Service (NRCS) is requesting comments from all interested individuals and organizations on a revision of a currently approved information collection request associated with the Advancing Markets for Producers grant activity. The purpose of the Advancing Markets for Producers initiative is to prioritize producer support to develop sustained methods for expansion of markets for American agricultural products; prioritizing new markets, improving supply chains, and enabling direct-to consumer sales, thereby improving economic opportunities for farmers; and prioritize methods to improve farmers collective resource sharing, access to market infrastructure, and promotion of long-term economic sustainability within the amplification of market expansion. Additional information on the partnerships is available at https://www.usda.gov.

DATES: We will consider comments that we receive by April 13, 2026.

ADDRESSES: We invite you to submit comments on this notice. You may submit comments, identified by Docket ID: NRCS-2025-0236 in the Federal eRulemaking Portal: Go to http://www.regulations.gov. Follow the online instructions for submitting comments.

You may also send comments to the Desk Officer for Agriculture, Office of Information and Regulatory Affairs, Office of Management and Budget, Washington, DC 20503. Copies of the information collection may be requested by contacting Allison Costa below.

FOR FURTHER INFORMATION CONTACT: Allison Costa, telephone: (360) 768-3113; email: fpac.nrcs.partnerships@usda.gov. Persons with disabilities who require alternative mean for communication should contact the USDA's TARGET Center at (844) 433-2774.

SUPPLEMENTARY INFORMATION:

Description of Information Collection

Title: Advancing Market for Producers.

OMB Control Number: 0578-0031.

Type of Request: Revision of currently approved collection.

OMB Expiration Date: February 28, 2026.

Abstract: We are requesting comments on the burden for ongoing progress reporting. In general, reporting for the Advancing Markets for Producers grants will follow the guidelines included in the General Terms and Conditions, which are available at the following website: https://www.fpacbc.usda.gov/about/grants-and-agreements/award-terms-and-conditions/index.html.

Partners are required to submit progress reports after the first quarter and at least twice a year on the project, including the following information:

• Participating producers and landowners;

• Conservation practices applied;

• Outreach and training;

• Financial assistance for producers or landowners to implement conservation practices;

• Benefits associated with the implementation of conservation practices;

• Marketing and outreach related to commodities as a result of project activities;

• Technical assistance and resources are provided, especially to help producers overcome barriers to adopting conservation practices;

• Partnerships developed and leveraged, including public-private partnerships to foster and develop commodity markets; and

• Commodity supply chain and demand impacts, as well as other economic benefits.

Certain reporting elements may be required to be georeferenced (geospatially referenced).

For the following estimated total annual burden on respondents, the formula used to calculate the total burden hour is the estimated average time per responses, in hours, multiplied by the estimated total annual responses.

Estimate of Annual Burden: Public reporting burden for the collection of information is estimated to average 10.5 hours per response.

Respondents: Advancing Markets for Producers Awardees.

Estimated Number of Respondents: 125.

Estimated Number of Responses per Respondent: 2.

Estimated Total Annual Number of Responses: 250.

Estimated Average Time per Response: 17 hours.

Estimated Total Annual Burden Hours: 4,250 hours.

We are requesting comments on all aspects of this information collection to help us:

(1) Evaluate whether the proposed collection of information is necessary for the proper performance of the functions of the agency, including whether the information will have practical utility;

(2) Evaluate the accuracy of the agency's estimate of the burden of the collection of information, including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

William Beam,
Executive Vice President, Commodity Credit Corporation.
Aubrey Bettencourt,
Administrator, Natural Resources Conservation Service.

[FR Doc. 2026-02625 Filed 2-9-26; 8:45 am]

BILLING CODE 3410-16-P